DEPARTMENT OF COMMERCE

International Trade Administration

[A-570-016]

Certain Passenger Vehicle and Light Truck Tires From the People's Republic of China: Preliminary Results and Partial Rescission of Antidumping Duty Administrative Review; 2022-2023

AGENCY: Enforcement and Compliance, International Trade Administration, Department of Commerce.

SUMMARY: The U.S. Department of Commerce (Commerce) preliminarily finds that certain exporters of passenger vehicle and light truck tires (passenger tires) from the People's Republic of China (China) made sales of subject merchandise at prices below normal value (NV) during the period of review (POR) August 1, 2022, through July 31, 2023. Commerce also preliminarily finds that five companies had no entries of subject merchandise during the POR, and that it is appropriate to rescind this review with respect to 14 companies because all requests for review of these companies were withdrawn. We invite interested parties to comment on these preliminary results.

DATES: Applicable September 11, 2024.

FOR FURTHER INFORMATION CONTACT: Lilit Astvatsatrian, AD/CVD Operations, Office IX, Enforcement and Compliance, International Trade Administration, U.S. Department of Commerce, 1401 Constitution Avenue NW, Washington, DC 20230; telephone: (202) 482-6412.

SUPPLEMENTARY INFORMATION:

Background

On October 18, 2023, based on timely requests for review, in accordance with 19 CFR 351.221(c)(1)(i), we initiated this administrative review of the antidumping duty order on passenger tires from China.¹ This review covers 33 exporters of the subject merchandise.

¹ See Initiation of Antidumping and Countervailing Duty Administrative Reviews, 88 FR 71829 (October 18, 2023); see also Certain Passenger Vehicle and Light Truck Tires from the People's Republic of China: Amended Final Affirmative Antidumping Duty Determination and Antidumping Duty Order; and Amended Final Affirmative Countervailing Duty Determination and Countervailing Duty Order, 80 FR 47902 (August 10, 2015) (Order).

In April 2024, we extended the preliminary results of this review until August 29, 2024.² On July 22, 2024, Commerce tolled certain deadlines in this administrative proceeding by seven days.³ The deadline for these preliminary results is now September 5, 2024.

² See Memorandum, “Extension of Deadline for Preliminary Results of the 2022-2023 Antidumping Duty Administrative Review,” dated April 4, 2024.

³ See Memorandum, “Tolling of Deadlines for Antidumping and Countervailing Duty Proceedings,” dated July 22, 2024.

For a complete description of the events that followed the initiation of this administrative review, see the Preliminary Decision Memorandum.⁴ The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx. A list of topics discussed in the Preliminary Decision Memorandum is included in Appendix I.

⁴ See Memorandum, “Decision Memorandum for the Preliminary Results of the Antidumping Duty Administrative Review of Certain Passenger Vehicle and Light Truck Tires from the People's Republic of China; 2022-2023,” dated concurrently with, and hereby adopted by, this notice (Preliminary Decision Memorandum).

Scope of the Order

The products covered by the Order are passenger tires from China. For a full description of the scope of the Order, see the Preliminary Decision Memorandum.

Partial Rescission of Administrative Review

Pursuant to 19 CFR 351.213(d)(1), Commerce will rescind an administrative review, in whole or in part, if a party who requested the review withdraws the request within 90 days of the date of publication of notice of initiation of the requested review in the Federal Register. Between October 2023 and January 2024, all parties withdrew their requests for review by the 90-day withdrawal deadline for the companies identified in Appendix III.⁵ Because all parties timely withdrew their requests for a review of these exporters, consistent with 19 CFR 351.213(d)(1), Commerce is rescinding this review, in part, with respect to these companies.

⁵ See Dynamic Tire's Letter, “Sailun Withdrawal Request of Administrative Review,” dated October 24, 2023; Sumitomo Rubber's Letter, “Withdrawal of Request for Review,” dated November 14, 2023; Hankook Tire's Letter, “Withdrawal of Request for Administrative Review for Jiangsu Hankook,” dated December 13, 2023; Shandong New Continent's Letter, “SNC Withdrawal of Request for Antidumping Administrative Review,” dated December 27, 2023; Giti's Letter, “Withdrawal of Request for Administrative Review,” dated January 2, 2024; Qingdao Fullrun's and Qingdao Lakesea's Letters, “Withdrawal of Request for Administrative Review,” dated January 5, 2024; Qingdao Keter's, Sanli Tire's, and Qingdao Sunfulcess' Letter, “Withdrawal of Request for Administrative Review,” dated January 11, 2024; Triangle Tyre's Letter, “Withdrawal of Request for Administrative Review,” dated January 11, 2024; and Hankook Tire's Letter, “Withdrawal of Request for Administrative Review,” dated January 15, 2024.

Furthermore, pursuant to 19 CFR 351.213(d)(3), Commerce will rescind an administrative review when there are no entries of subject merchandise during the POR for which liquidation is suspended.⁶ Normally, upon completion of an administrative review, the suspended entries are liquidated at the antidumping duty assessment rate calculated for the review period.⁷ Therefore, for an administrative review of a company to be conducted, there must be a suspended entry that Commerce can instruct U.S. Customs and Border Protection (CBP) to liquidate at the antidumping duty assessment rate calculated for the POR.⁸

⁶ See, e.g., Dioctyl Terephthalate from the Republic of Korea: Rescission of Antidumping Administrative Review; 2021-2022, 88 FR 24758 (April 24, 2023); see also Certain Carbon and Alloy Steel Cut- to Length Plate from the Federal Republic of Germany: Recission of Antidumping Administrative Review; 2020-2021, 88 FR 4157 (January 24, 2023).

⁷ See 19 CFR 351.212(b)(2).

⁸ See 19 CFR 351.213(d)(3).

In January and August 2024, we notified parties of our intent to rescind this administrative review, in part, with respect to the companies identified in Appendix III, with the exception of Shandong Linglong Tyre Co., Ltd. (Shandong Linglong), because there were no suspended entries of subject merchandise produced or exported by these companies during the POR, and we invited interested parties to comment.⁹ Therefore, we determine that, in the absence of any suspended entries of subject merchandise from these five companies listed in Appendix III during the POR, we are rescinding the administrative review for these companies (excluding Shandong Linglong), in accordance with 19 CFR 351.213(d)(3).

⁹ See Memorandum, “Notice of Intent to Rescind Review, In Part,” dated January 29, 2024; and Memorandum, “Notice of Intent to Rescind Review on Shandong Transtone,” dated August 22, 2024.

With regard to Shandong Linglong, we received comments from this company, stating that it had reviewable entries during the POR.¹⁰ We intend to request further information regarding such entries, which we will consider for the final results.

¹⁰ See Shandong Linglong's Letter, “Shandong Linglong Comments on the Department's Notice of Intent to Rescind,” dated February 5, 2024.

Methodology

Commerce is conducting this review in accordance with section 751(a)(1)(B) of the Tariff Act of 1930, as amended (the Act), and 19 CFR 351.213. We calculated constructed export prices in accordance with section 772(b) of the Act. Because China is a non-market economy (NME) country, within the meaning of section 771(18) of the Act, we calculated NV in accordance with section 773(c) of the Act. For a full description of the methodology underlying our conclusions, see the Preliminary Decision Memorandum.

Separate Rates

As discussed in the Preliminary Decision Memorandum, Commerce preliminarily finds that Shandong Hongsheng Rubber Technology Co., Ltd. (Shandong Hongsheng) and Shandong Haohua Tire Co., Ltd. (Shandong Haohua) have not established their eligibility for a separate rate. Moreover, Commerce preliminarily finds that seven other companies under review did not establish their eligibility for separate rates because they failed to provide either a separate rate application, a separate rate certification, or a no-shipment certification (if they had previously received a separate rate). As such, we preliminarily determine that Shandong Hongsheng, Shandong Haohua, and these seven other companies are part of the China-wide entity. See Appendix II for a complete list of these companies.

Commerce preliminarily determines that the following companies have demonstrated their eligibility for a separate rate in this review: ¹¹ (1) Zhaoqing Junhong Co., Ltd (Junhong); (2) Jiangsu General Science Technology Co., Ltd.; (3) Qingdao Transamerica Tire Industrial Co., Ltd.; and (4) Winrun Tyre Co., Ltd.

¹¹ See Preliminary Decision Memorandum at “Separate Rates.”

The Act and Commerce's regulations do not address the establishment of a rate to apply to companies not selected for individual examination when Commerce limits its examination in an administrative review pursuant to section 777A(c)(2) of the Act. Generally, Commerce looks to section 735(c)(5) of the Act, which provides instructions for calculating the all-others rate in an investigation, for guidance when determining the dumping margin for respondents that are not individually examined in an administrative review. Section 735(c)(5)(A) of the Act states that the all-others rate should be calculated by averaging the weighted-average dumping margins for individually-examined respondents, excluding dumping margins that are zero, de minimis, or based entirely on facts available. For these preliminary results, we preliminarily determined a dumping margin for the separate rate respondents using the calculated rate of the mandatory respondent, Junhong, which is not zero or de minimis, or determined entirely on the basis of facts available.

China-Wide Entity

Commerce's policy regarding conditional review of the China-wide entity applies to this administrative review.¹² Because no party requested a review of the China-wide entity, the China-wide entity is not under review. Therefore, the rate previously established for the China-wide entity (i.e., 76.46 percent) remains the China-wide entity rate this review.¹³

¹² See Antidumping Proceedings: Announcement of Change in Department Practice for Respondent Selection in Antidumping Duty Proceedings and Conditional Review of the Nonmarket Economy Entity in NME Antidumping Duty Proceedings, 78 FR 65963 (November 4, 2013).

¹³ See Order, 80 FR at 47904, n.19.

Preliminary Results of Review

We preliminarily determine that the following estimated weighted-average dumping margins exist for the period August 1, 2022, through July 31, 2023:

Exporter | Weighted- average dumping margin (percent)
Jiangsu General Science Technology Co., Ltd | 28.76
Qingdao Transamerica Tire Industrial Co., Ltd | 28.76
Winrun Tyre Co., Ltd | 28.76
Zhaoqing Junhong Co., Ltd | 28.76

Disclosure and Public Comment

Commerce intends to disclose the calculations and analysis performed to interested parties for these preliminary results within five days of any public announcement or, if there is no public announcement, within five days after the date of publication of this notice in accordance with 19 CFR 351.224(b).

Pursuant to 19 CFR 351.309(c), interested parties may submit case briefs to Commerce no later than 30 days after the date of publication of this notice in the Federal Register regarding all issues, except those related to POR entries for Shandong Linglong.¹⁴ Rebuttal briefs, limited to issues raised in the case briefs, may be filed not later than five days after the date for filing case briefs.¹⁵ Interested parties who submit case briefs or rebuttal briefs in this proceeding must submit: (1) a table of contents listing each issue; and (2) a table of authorities.¹⁶

¹⁴ Because we are requesting additional information regarding Shandong Linglong, we intend to set a separate briefing schedule related to any issues specific to this company at a later date.

¹⁵ See 19 CFR 351.309(d); see also Administrative Protective Order, Service, and Other Procedures in Antidumping and Countervailing Duty Proceedings, 88 FR 67069, 67077 (September 29, 2023) (APO and Service Final Rule).

¹⁶ See 19 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹⁷ Further, we request that interested parties limit their executive summary of each issue to no more than 450 words, not including citations. We intend to use the executive summaries as the basis of the comment summaries included in the issues and decision memorandum that will accompany the final results in this administrative review. We request that interested parties include footnotes for relevant citations in the executive summary of each issue. Note that Commerce has amended certain of its requirements pertaining to the service of documents in 19 CFR 351.303(f).¹⁸

¹⁷ We use the term “issue” here to describe an argument that Commerce would normally address in a comment of the Issues and Decision Memorandum.

¹⁸ See APO and Service Final Rule.

Pursuant to 19 CFR 351.310(c), interested parties who wish to request a hearing must submit a written request to the Assistant Secretary for Enforcement and Compliance, filed electronically via ACCESS. Requests should contain: (1) the party's name, address, and telephone number; (2) the number of participants; and (3) a list of issues to be discussed. Issues raised in the hearing will be limited to those raised in the respective case and rebuttal briefs. Oral presentations at the hearing will be limited to issues raised in the briefs. An electronically filed hearing request must be received successfully in its entirety by Commerce's electronic records system, ACCESS, by 5 p.m. Eastern Time within 30 days after the date of publication of this notice.

Assessment Rates

Upon completion of this administrative review, Commerce shall determine, and CBP shall assess, antidumping duties on all appropriate entries covered by this review.¹⁹ Pursuant to 19 CFR 351.212(b)(1), because Junhong reported the entered value for its U.S. sales, we calculated importer-specific ad valorem duty assessment rates based on the ratio of the total amount of dumping calculated for the importer's examined sales to the total entered value of those sales. Where either a respondent's weighted-average dumping margin is zero or de minimis within the meaning of 19 CFR 351.106(c)(1), or an importer-specific rate is zero or de minimis, we will instruct CBP to liquidate the appropriate entries without regard to antidumping duties.²⁰

¹⁹ See 19 CFR 351.212(b)(1).

²⁰ Id.

Pursuant to Commerce's assessment practice,²¹ for entries that were not reported in the U.S. data submitted by Junhong, we will instruct to CBP to liquidate such entries at the China-wide rate. Additionally, where Commerce determines that an exporter under review had no shipments of subject merchandise to the United States during the POR, any suspended entries of subject merchandise that entered under that exporter's CBP case number during the POR will be liquidated at the dumping margin assigned to the China-wide entity.

²¹ See Non-Market Economy Antidumping Proceedings: Assessment of Antidumping Duties, 76 FR 65694 (October 24, 2011), for a full discussion of this practice.

For respondents not individually examined in this administrative review that qualified for a separate rate, the assessment rate will be equal to the dumping margin assigned to Junhong in the final results of this review.²² Finally, we intend to liquidate entries containing subject merchandise exported by the companies under review that we determine in the final results to be part of the China-wide entity at the China-wide rate of 76.46 percent.

²² See Drawn Stainless Steel Sinks from the People's Republic of China: Preliminary Results of the Antidumping Duty Administrative Review and Preliminary Determination of No Shipments: 2014-2015, 81 FR 29528 (May 12, 2016), and accompanying PDM at 10-11, unchanged in Drawn Stainless Steel Sinks from the People's Republic of China: Final Results of Antidumping Duty Administrative Review; Final Determination of No Shipments; 2014-2015, 81 FR 54042 (August 15, 2016).

In accordance with section 751(a)(2)(C) of the Act, the final results of this review shall be the basis for the assessment of antidumping duties on entries of merchandise covered by the final results of this review and for future deposits of estimated antidumping duties, where applicable. Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Finally, for the companies for which we are rescinding this review, we intend to instruct CBP to assess antidumping duties on all appropriate entries at a rate equal to the cash deposit rate of estimated antidumping duties required at the time of entry, or withdrawal from warehouse, for consumption in accordance with 19 CFR 351.212(c)(1)(i). Commerce intends to issue assessment instructions to CBP no earlier than 35 days after the date of publication of this notice in the Federal Register.

Cash Deposit Requirements

The following cash deposit requirements will be effective upon publication of the final results of this administrative review for all shipments of the subject merchandise from China entered, or withdrawn from warehouse, for consumption on or after the publication date, as provided for by section 751(a)(2)(C) of the Act: (1) for the companies listed above that have a separate rate, the cash deposit rate will be that rate established in the final results of this review (except, if the rate is zero or de minimis, then a cash deposit rate of zero will be established for that company); (2) for previously investigated or reviewed exporters not listed in the final results of review that have separate rates, the cash deposit rate will continue to be the exporter's weighted-average dumping margin published of the most recently-completed segment of this proceeding; (3) for all Chinese exporters of subject merchandise that have not been found to be entitled to a separate rate, the cash deposit rate will be the rate for China-wide entity (i.e., 76.46 percent); ²³ and (4) for all exporters of subject merchandise which are not located in China and are not eligible for a separate rate, the cash deposit rate will be the rate applicable to Chinese exporter(s) that supplied that non-Chinese exporter. These deposit requirements, when imposed, shall remain in effect until further notice.

²³ See Order, 80 FR at 47904, n.19.

Final Results

Commerce intends to issue the final results of this administrative review, including the results of its analysis of all issues raised in any written briefs, not later than 120 days after the publication of these preliminary results in the Federal Register, unless otherwise extended.²⁴

²⁴ See section 751(a)(3)(A) of the Act.

Notification to Importers

This notice also serves as a reminder to importers of their responsibility under 19 CFR 351.402(f)(2) to file a certificate regarding the reimbursement of antidumping and/or countervailing duties prior to liquidation of the relevant entries during this POR. Failure to comply with this requirement could result in Commerce's presumption that reimbursement of antidumping and/or countervailing duties occurred and the subsequent assessment of double antidumping duties and/or an increase in the amount of antidumping duties by the amount of the countervailing duties.

Notification to Interested Parties

We are issuing and publishing these results in accordance with sections 751(a)(1) and 777(i)(1) of the Act and 19 CFR 351.213 and 19 CFR 351.221(b)(4).

Dated: September 5, 2024.
Abdelali Elouaradia,
Deputy Assistant Secretary for Enforcement and Compliance.

Appendix I

List of Topics Discussed in the Preliminary Decision Memorandum

I. Summary

II. Background

III. Scope of the Order

IV. Discussion of the Methodology

V. Currency Conversion

VI. Recommendation

Appendix II

Companies Preliminary Found To Be Part of the China-Wide Entity

1. Kinforest Tyre Co., Ltd.

2. Qingdao Fullrun Tyre Tech Corp., Ltd.

3. Qingdao Powerich Tyre Co., Ltd.

4. Qingdao Vitour United Corp.

5. Shandong Haohua Tire Co., Ltd.

6. Shandong Hongsheng Rubber Technology Co., Ltd.

7. Shandong Wanda Boto Tyre Co., Ltd.

8. Tianjin Wanda Tyre Group Co., Ltd.

9. Zhongce Rubber Group Company, Ltd.

Appendix III

Companies Rescinded From Review

Rescission Based on Withdrawal of Review Requests

1. Anhui Jichi Tire Co., Ltd.;

2. Giti Radial Tire (Anhui) Company, Ltd.; Giti Tire (Anhui) Company, Ltd.; Giti Tire (Chongqing) Company, Ltd.; Giti Tire (Fujian) Company, Ltd.; Giti Tire Global Trading Pte. Ltd.; Giti Tire Greatwall Company, Ltd.; Giti Tire (Hualin) Company, Ltd.; Giti Tire (Yinchuan) Company, Ltd.

3. Hankook Tire China Co., Ltd.

4. Jiangsu Hankook Tire Co., Ltd.

5. Qingdao Fullrun Tyre Corp., Ltd.

6. Qingdao Keter International Co., Limited

7. Qingdao Lakesea Tyre Co., Ltd.

8. Qingdao Sunfulcess Tyre Co., Ltd.

9. Dynamic Tire Corp.; Shandong Jinyu Industrial Co.; Sailun Tire International Corp.; Husky Tire Corp.; Seatex PTE. Ltd.; Seatex International Inc.; Sailun Group (HongKong) Co., Limited; Sailun HK; Sailun Jinyu HK; Sailun Group Co., Ltd.; Sailun Group; Sailun Jinyu Group Co., Ltd.; and Sailun Jinyu

10. Sailun Tire Americas Inc.

11. Shandong New Continent Tire Co., Ltd.

12. Shandong Province Sanli Tire Manufacture Co., Ltd.

13. Sumitomo Rubber (Changshu) Co., Ltd.; Sumitomo Rubber (Hunan) Co., Ltd.; and Sumitomo Rubber Industries, Ltd.

14. Triangle Tyre Co., Ltd.

Rescission Based on No Suspended Entries

1. Prinx Chengshan (Shandong) Tire Co., Ltd.

2. Qingdao Nexen Tire Corporation.

3. Shandong Changfeng Tyres Co., Ltd.

4. Shandong Qilun Rubber Co., Ltd.

5. Shandong Transtone Tyre Co., Ltd.

[FR Doc. 2024-20582 Filed 9-10-24; 8:45 am]

BILLING CODE 3510-DS-P